DEPARTMENT OF ENERGY

Federal Energy Regulatory Commission

[Project No. 2071-013; Project No. 2111-018; Project No. 935-053; Project No. 2213-011 Washington]

PacifiCorp, Cowlitz PUD; Notice of Availability of the Final Environmental Impact Statement for the Lewis River Projects

March 24, 2006.

In accordance with the National Environmental Policy Act of 1969 and the Federal Energy Regulatory Commission's (Commission) regulations, 18 CFR part 380 (Order No. 486, 52 FR 47897), the Office of Energy Projects has reviewed the application for license for the Lewis River Projects (Yale, FERC No. 2071; Merwin, FERC No. 935; Swift No. 1, FERC No. 2111; and Swift No. 2, FERC No. 2213), located on the North Fork Lewis River in Cowlitz, Clark, and Skamania Counties, Washington and has prepared a Final Environmental Impact Statement (final EIS) for the project. The projects occupy 522.69 acres of Bureau of Land Management (BLM) and Forest Service land: the Yale Project occupies 84.00 acres of BLM land, the Swift No. 1 Project occupies 63.25 acres of BLM land and 229.00 acres of Forest Service land, the Merwin Project occupies 142.65 acres of BLM land, and the Swift No. 2 Project occupies 3.79 acres of Forest Service land.

The final EIS contains staff evaluations of the applicant's proposal and the alternatives for relicensing the Lewis River Projects. The final EIS documents the views of governmental agencies, non-governmental organizations, affected Indian tribes, the public, the license applicant, and Commission staff.

A copy of the final EIS is available for review in the Commission's Public Reference Branch, Room 2A, located at 888 First Street, NE., Washington, DC 20426. The final EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Ann-Ariel Vecchio at (202) 502-6351 or at ann-ariel.vecchio@ferc.gov.

Magalie R. Salas,
Secretary.

[FR Doc. E6-4648 Filed 3-29-06; 8:45 am]

BILLING CODE 6717-01-P